DEPARTMENT OF AGRICULTURE

Submission for OMB Review; Comment Request

September 16, 2010.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Agricultural Research Service

Title: Food Safety Education and Training Materials Sharing Form.

OMB Control Number: 0518—NEW.

Summary of Collection: The USDA National Agricultural Library (NAL) has a Food Safety Education and Training Materials Database. The Database is a centralized gateway to access consumer-centric materials for educators and others interested in food safety education. The collection of information is necessary to (1) Ensure resources are not duplicated (i.e. extension agents creating previously available education materials) (2) provide a central gateway to access the education materials (3) create a systematic and efficient method of collecting data from USDA grantees and (4) promote awareness of food safety education materials available for a variety of audiences. Materials that will be collected using the “Food Safety Education and Training Materials Sharing Form” will help the Food Safety Information Center (FSIC) staff identify food safety education and training resources for review and inclusion into the Education and Training Materials Database much faster and more efficiently. The authority for NAL to collect this information is contained in CFR, Title 7, Volume 1, Part 2, Subpart K, Sec. 2.65(92).

Need and Use of the Information: FSIS staff members will use information collected by the Sharing Form to build and constantly enhance the Food Safety Education and Training Materials Database. Food safety educators access and use this database to identify and obtain curricula, lesson plans, training tools and participant materials. Vital information about these resources, such as a description of the resources, its creator, publishing and ordering information can be collected in a more standardized and efficient manner using the Sharing Form. Failure to collect this information would significantly inhibit the ability to provide up-to-date information on existing food safety education and training materials that are appropriate for food safety educators, consumers and others interested in food safety education.

Description of Respondents: Individuals or households; Business or other for-profit.

Number of Respondents: 35.

Frequency of Responses: Reporting: On occasion.

Total Burden Hours: 7.

Ruth Brown,
Departmental Information Collection Clearance Officer.

[FR Doc. 2010-23531 Filed 9-20-10; 8:45 am]

BILLING CODE 3410-03-P